DEPARTMENT OF ENERGY

Federal Energy Regulatory Commission

[Docket No. IC19-23-000]

Commission Information Collection Activities (FERC-725P1); Consolidated Comment Request; Extension

AGENCY: Federal Energy Regulatory Commission.

ACTION: Notice of information collections and request for comments.

SUMMARY: In compliance with the requirements of the Paperwork Reduction Act of 1995, the Federal Energy Regulatory Commission (Commission or FERC) is soliciting public comment on the requirements and burden of the information collections described below.

DATES: Comments on the collections of information are due July 30, 2019.

ADDRESSES: You may submit comments (identified by Docket No. IC19-23-000) by either of the following methods:

• eFiling at Commission's Website: http://www.ferc.gov/docs-filing/efiling.asp.

• Mail/Hand Delivery/Courier: Federal Energy Regulatory Commission, Secretary of the Commission, 888 First Street NE, Washington, DC 20426.

Please reference the specific collection number and/or title in your comments.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Type of Request: Three-year extension of the information collection requirements for all collections described below with no changes to the current reporting requirements. Please note the three collections are distinct.

Comments: Comments are invited on: (1) Whether the collections of information are necessary for the proper performance of the functions of the Commission, including whether the information will have practical utility; (2) the accuracy of the agency's estimates of the burden and cost of the collections of information, including the validity of the methodology and assumptions used; (3) ways to enhance the quality, utility and clarity of the information collections; and (4) ways to minimize the burden of the collections of information on those who are to respond, including the use of automated collection techniques or other forms of information technology.

Title: FERC-725P1 (Mandatory Reliability Standards: PRC-005-6 Reliability Standard).

OMB Control No.: 1902-0280.

Abstract: The Commission requires the information collected by the FERC-725P1 to Ok. implement the statutory provisions of section 215 of the Federal Power Act (FPA).¹ On August 8, 2005, Congress enacted into law the Electricity Modernization Act of 2005, which is Title XII, Subtitle A, of the Energy Policy Act of 2005 (EPAct 2005).² EPAct 2005 added a new section 215 to the FPA, which required a Commission-certified Electric Reliability Organization (ERO) to develop mandatory and enforceable Reliability Standards, which are subject to Commission review and approval. Once approved, the Reliability Standards may be enforced by the ERO subject to Commission oversight, or the Commission can independently enforce Reliability Standards.³

¹ 16 U.S.C. 824o (2012).

² Energy Policy Act of 2005, Public Law 109-58, Title XII, Subtitle A, 119 Stat. 594, 941 (codified at 16 U.S.C. 824o).

³ 16 U.S.C. 824o(e)(3).

On February 3, 2006, the Commission issued Order No. 672, implementing section 215 of the FPA.⁴ Pursuant to Order No. 672, the Commission certified one organization, North American Electric Reliability Corporation (NERC), as the ERO.⁵ The Reliability Standards developed by the ERO and approved by the Commission apply to users, owners and operators of the Bulk-Power System as set forth in each Reliability Standard.

⁴ Rules Concerning Certification of the Electric Reliability Organization; and Procedures for the Establishment, Approval, and Enforcement of Electric Reliability Standards, Order No. 672, FERC Stats. & Regs. ¶ 31,204, order on reh'g, Order No. 672-A, FERC Stats. & Regs. ¶ 31,212 (2006).

⁵ North American Electric Reliability Corp., 116 FERC ¶ 61,062, order on reh'g and compliance, 117 FERC ¶ 61,126 (2006), order on compliance, 118 FERC ¶ 61,190, order on reh'g, 119 FERC ¶ 61,046 (2007), aff'd sub nom. Alcoa Inc. v. FERC, 564 F.3d 1342 (D.C. Cir. 2009).

On November 13, 2015, the North American Electric Reliability Corporation (NERC) filed a petition for Commission approval of proposed Reliability Standard PRC-005-6 (Protection System, Automatic Reclosing, and Sudden Pressure Relaying Maintenance). NERC also requested approval of the proposed implementation plan for PRC-005-6, and the retirement of previous versions of Reliability Standard PRC-005.

NERC explained in its petition that Reliability Standard PRC-005-6 represents an improvement upon the most recently-approved version of the standard, PRC-005-4. FERC approved the proposed Reliability Standard PRC-005-6 on December 18, 2015.

Type of Respondent: Transmission Owners (TO), Generator Owners (GO), and Distribution Providers.

Estimate of Annual Burden: The Commission estimates the annual public reporting burden for the information collection as:

FERC-725K—Mandatory Reliability Standards for the SERC Region ⁶
| Number of respondents | Annual number of responses per respondent | Total number of responses | Average burden hrs. & cost per response ⁷ | Total annual burden hours & total annual cost ⁸
| (1) | (2) | (1) * (2) = (3) | (4) | (3) * (4) = (5)
PRC-005-6 Reliability Standard | ⁹ 996 | 1 | 996 | 2 hrs.; $133.80 | 1,992 hrs.; $133,265.¹⁰

One-time reporting requirements related to the implementation of the PRC-005-6 Reliability Standard are being removed from the FERC-725P1 information collection. A list of those removed reporting requirements and their related burdens follows:

⁶ Entities affected by the PRC-005-6 Reliability Standard are registered to serve any of the following roles:

• PC=Planning Coordinators;

• GO=Generator Owners.

Some entities are registered to serve both roles.

⁷ The estimated hourly cost (salary plus benefits) provided in this section is based on the salary figures (http://www.bls.gov/oes/current/naics2_22.htm) and benefits (http://www.bls.gov/news.release/ecec.nr0.htm) for May 2017 posted by the Bureau of Labor Statistics for the Utilities sector. The hourly estimates for salary plus benefits are $66.90/hour based on the Electrical Engineering career (Occupation Code: 17-2071).

⁸ Total Annual Cost is rounded-up from $133,264.80 to $133,265.

⁹ 20 (PC role only) + 927 (GO role only) + 49 (joint role as PC and GO) = 996 unique entities.

¹⁰ This number is rounded from $133,264.80.

• One-time review of existing plant and substation sites: 937 responses and 1,874 hours.

• One-time review and adjustment of existing programs for reclosing relays and associated equipment: 288 responses and 2,448 hours.

• One-time review and adjustment of existing program for sudden pressure relays: 1,287 responses and 10,296 hours.

The previous table presents the FERC-725P1 burden estimate after these three one-time requirements were removed and the burden was reduced.

Dated: May 23, 2019.
Nathaniel J. Davis, Sr.,
Deputy Secretary.

[FR Doc. 2019-11357 Filed 5-30-19; 8:45 am]

BILLING CODE 6717-01-P